DEPARTMENT OF ENERGY

Federal Energy Regulatory Commission

[Docket No. RP03-420-002]

Iroquois Gas Transmission System, L.P.; Notice of Proposed Changes in FERC Gas Tariff

November 7, 2003.

Take notice that on October 31, 2003, Iroquois Gas Transmission System, L.P. (Iroquois) tendered for filing the following tariff sheet proposed to become effective December 1, 2003:

Thirteenth Revised Sheet No. 120

Iroquois states that this sheet is submitted in compliance with the Commission's Orders issued in Docket No. RP03-420-000 on June 27, 2003 and August 29, 2003. The tariff sheet included herewith reflects the change required by the Commission.

Iroquois states that copies of its filing were served on all jurisdictional customers and interested state regulatory agencies and all parties to the proceeding.

Any person desiring to be heard or to protest said filing should file a motion to intervene or a protest with the Federal Energy Regulatory Commission, 888 First Street, NE., Washington, DC 20426, in accordance with § 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary” (FERRIS). Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's web site under the “eFiling” link.

Magalie R. Salas,
Secretary.

[FR Doc. E3-00287 Filed 11-14-03; 8:45 am]

BILLING CODE 6717-01-P